DEPARTMENT OF TRANSPORTATION

Saint Lawrence Seaway Development Corporation Advisory Board; Notice of Meeting

Pursuant to section 10(a)(2) of the Federal Advisory Committee Act (Pub. L. 92-463; 5 U.S.C. App. I) notice is hereby given of a meeting of the Advisory Board of the Saint Lawrence Seaway Development Corporation (SLSDC), to be held at 3 PM on Tuesday, June 3, 2003, aboard the Princess Tina, which will be moored at the Bickerdike Terminal, Pier M5 or M6, located at the corner of Bonaventure Expressway and Eipierre DuPuis, Montreal, Quebec. The agenda for this meeting will be as follows: Opening Remarks; Consideration of Minutes of Past Meeting; Review of Programs; New Business; and Closing Remarks.

Attendance at meeting is open to the interested public but limited to the space available. With the approval of the Administrator, members of the public may present oral statements at the meeting. Persons wishing further information should contact, not later than May 30, 2003, Anita K. Blackman, Chief of Staff, Saint Lawrence Seaway Development Corporation, 400 Seventh Street, SW., Washington, DC 20590; 202-366-0091.

Any member of the public may present a written statement to the Advisory Board at any time.

Issued at Washington, DC on May 23, 2003.
Marc C. Owen,
Chief Counsel.

[FR Doc. 03-13415 Filed 5-28-03; 8:45 am]

BILLING CODE 4910-61-P